DEPARTMENT OF JUSTICE

National Institute of Corrections

Solicitation for a Cooperative Agreement: Strategic Essentials for the Advancement of Women Executives in Corrections

AGENCY: National Institute of Corrections, U.S. Department of Justice.

ACTION: Solicitation for a Cooperative Agreement.

SUMMARY: The National Institute of Corrections (NIC) is soliciting proposals from organizations, groups, or individuals to enter into an 18-month cooperative agreement to provide for the revision of Strategic Development of the Executive Woman, and to plan and deliver the program in 2012. NIC continues to build upon the success of its women's-only programming, where gender barriers are eliminated and acceleration of learning is possible. The award recipient will become familiar with the work currently being done at NIC that provides for an understanding of the history and future development goals for this series.

The award includes responsibility for the updated Instructional Theory into Practice (ITIP) formatted curriculum, and in collaboration with the NIC Research and Information Services Division, an evaluation of the initial program delivery using the NIC training evaluation protocol. This should represent a minimal cost to the award recipient. The project will also address strategies for additional learning and networking upon training completion.

DATES: Applications must be received by 2 p.m. EDT on Thursday, February 15, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front desk, dial 73106, extension 0 for pickup.

Faxed applications will NOT be accepted. Electronic applications can be submitted only via www.grants.gov.

FOR FURTHER INFORMATION CONTACT: A copy of this announcement can be downloaded from the NIC Web page at www.nicic.gov.

All technical or programmatic questions concerning this announcement should be directed to Evelyn Bush, Correctional Program Specialist, National Institute of Corrections. She can be reached at e1bush@bop.gov.

SUPPLEMENTARY INFORMATION: Curriculum Design: The curriculum design for Executive Leadership for Women was based on research done with corrections practitioners and women in senior positions in correctional leadership. Several assessments were administered to these groups, and the findings formed the development of a set of 10 competencies essential to future leadership effectiveness in corrections. From these, a Correctional Leadership Competency Model was designed.

Over the last five years, NIC's Executive Leadership for Women in Corrections program has adapted to be current with recent trends such as those noted in the NIC Correctional Competencies publication.

Background: The National Institute of Corrections, Prisons Division, offered its first executive leadership training for women in 1994. The program was designed to address both the personal and professional aspects of women's leadership in a nontraditional profession such as corrections. Through a two-part series, NIC helped close the gap for women executives in their knowledge, their recognition of their value to the organization, and their self and observer perception.

Although the past three decades have witnessed a tremendous increase in the number of women working in corrections, the increasing numbers of women in the workforce have not been matched by corresponding advancement in executive and senior-level leadership positions. Women are underrepresented in senior and executive (CEO) leadership positions across all professions, but they are significantly underrepresented in the corrections field.

By 2012, women will comprise 47.5% of the workforce. With the anticipated rise of women in the ranks of senior-level positions, forward-looking organizations proactively seek ways to advance the leadership capacities of the women they promote, or intend to promote, to senior and executive administration.

Target Audience: Women who are senior- and upper-level correctional staff, serving in jails, prisons, and community corrections comprise the target audience for this program. They must be functioning at a senior or executive level.

Curriculum Revision: Revision of the curriculum will include review of the current Strategic Development of Executive Women training program and development of learning materials. Any approach to revising the curriculum must include the following:

Enhancements of the Existing Model: The revision should include a review and update of the current program/curriculum based on updated research on women's leadership, the NIC Senior-Level Leadership Competency, and recommendations gathered during the course of this cooperative agreement.

Introduction of a New Model: The revision should include a review and update of the current program/curriculum using a competency-based leadership education model that can be modified to be corrections-specific to women in senior management. It must also account for recommendations gathered during the course of this cooperative agreement.

Products and Deliverables: Expected deliverables from this award include a training curriculum designed using the ITIP model of instruction, which will contain an instructor/facilitator's guide with associated tools, materials, and resources with a final, agreed upon curriculum delivered to NIC no later than June 1, 2012; a participant resource guide to be used in conjunction with the training; instructional aides, including presentation slide shows, CDs, charts, handouts, case studies, assessments, and experiential activities, etc. to support instruction and learning; and delivery and facilitation of a 32-hour classroom training for 20 participants with blended learning tools.

Training Program Description: The training program will be announced on NIC's Web site with its list of other training courses.

Program Delivery: Delivery of the initial training program in 2012 is part of this agreement. To ensure adequate development time, the applicant should expect to deliver the training between July 1 and September 1, 2012, on dates agreeable to NIC. The delivery includes preparation of program materials, setting the agenda for and hosting a faculty planning meeting, the contracting and training of NIC-approved faculty, and the administration of onsite logistics. Participant travel is managed and funded separately by NIC. Participant lodging and meals are funded within this agreement based on government per diem.

Scope of Project: The recipient of this cooperative agreement award must, at a minimum, do the following within the scope of this project: In collaboration with the NIC, conduct a survey regarding critical leadership competencies or sets that organizations should be developing and conduct a survey to capture barriers that women and minorities face when seeking promotion to senior executive positions in corrections.

The narrative portion of the cooperative agreement application should include, at a minimum (1) A clear description of women's learning orientations and the methodology that will be used to take these into consideration as part of the curriculum; (2) a brief summary that indicates the applicant's understanding of the purpose and need of this cooperative agreement; (3) a brief paragraph that summarizes the project goals and objectives; (4) a clear description of the methodology that will be used to complete the project and achieve its goals; (5) a clearly developed work plan with measurable project milestones and timelines for the completion of each milestone; (6) a description of the qualifications of the applicant and each project staff. Experienced correctional professional(s) are expected to be on the project team. These person(s) can be project staff or consultants. The correctional experience cited as qualifications must be at the senior or executive level or above; (7) a description of the staffing plan, including the role and time commitment for each project staff member and an applicant certification that identified staff have been contacted and that they will be available to work on this project; and (8) a budget that details all costs for the project, shows consideration for all contingencies, and notes a commitment to work within the proposed budget. The application must also include a budget narrative that explains how all costs were determined.

Specific Requirements: The applicant will provide an example of several topics/modules that may be considered and their accompanying learning activity. Continuous consultation with the NIC Correctional Program Specialist (CPS) on both proposed curriculum content and training program strategies is necessary. The CPS will have final approval of both. The selected applicant will conduct a face-to-face training/planning meeting with the CPS and NIC-selected and approved trainers and/or faculty to deliver the program at least 60 days before the program start date. The awardee will be responsible for the preparation of all program training materials, negotiation, timely completion of faculty contracts, and coordination of all program site logistics. Participant/faculty lodging, meals, and administration of the associated logistics are to be funded within this agreement. Faculty travel must also be funded within this agreement. Knowledge and previous use of level-one and level-two evaluation methods is necessary. The use of blended learning tools, such as a live Web-based training environment or supplemental online information transfer, is expected.

Site Selection: The training site must be a mutually agreed upon site and fall within budgetary constraints. It should acknowledge the necessity of an evidence-based learning environment.

Curriculum Specifications: The curriculum must be designed and developed while adhering to the following standards and specifications: The curriculum and training design must be consistent with and embrace the Instructional Theory into Practice (ITIP) model. A reference to this model can be found at http://nicic.gov/Library/010714. Written products are developed to support the training. The curriculum facilitation guide is written using a standard curriculum document format, which should include, at a minimum, modules/sections and titles, performance objectives/expectations, a learning activities guide, practice/application activities, evaluation methods, and resources needed to conduct training activities. Cited references should support the curriculum content and concepts. Copyright permissions should be secured for the use of copyright protected publications and materials with a minimum usage of three years. All documents must be delivered electronically in both MS Word 2003 or higher and hard copy; NIC will have final approval of the format, design, and organization of the curriculum documents.

Required Expertise: The successful applicant and/or project staff will possess knowledge, skills, and experience in the following areas: Program design, strategic processes, correctional organizational culture, team dynamics, and change management. Demonstrated knowledge and experience with the dynamics affecting women in corrections is necessary. The applicant will provide an example of recent involvement in leadership development programming specific to women and possess knowledge and experience in curriculum development based on adult learning theory and the Instructional Theory into Practice (ITIP) format. Knowledge and expertise in a variety of instructional delivery strategies should utilize, but are not limited to, 360 assessment certification, asynchronous computer/Web-based instructor led, synchronous Web-based, and social learning networks, etc. Skill in designing training curriculum linked to training objectives, knowledge of available training evaluation methods, and effective written and oral communication skills are necessary.

Review Considerations: Applications received under this announcement will be subject to the NIC Review Process. The criteria for the evaluation of each application will be as follows:

Programmatic (40%)

Are all the tasks adequately discussed? Is there a clear understanding of the problem to be addressed? Are the staffing, resources, and strategies to be employed sound and reasonable? Does the applicant have a track record for this work? Are there any innovative approaches, techniques, or design aspects proposed that will enhance the project? Are adequate examples supplied? Are there examples provided?

Organizational (30%)

Do the skills, knowledge, and expertise of the organization and the proposed project staff demonstrate a high level of competency to carry out the tasks? Does the applicant organization have the necessary experience in women's leadership development? Are the proposed project management and staffing plans realistic?

Project Management/Administration (20%)

Does the applicant identify reasonable objectives, milestones, and measures to track progress? If consultants and/or partnerships are proposed, is there a reasonable justification for their inclusion in the project and a clear structure to ensure effective coordination? Is sufficient background work done to support the approach?

Fiscal (10%)

Is the proposed budget realistic? Does it provide sufficient cost detail/narrative and represent good value relative to the anticipated results?

Application Requirements: Applications should be concisely written, typed double spaced and reference the “NIC Funding Opportunity Number” and Title provided in this announcement. The application package must include: OMB Standard Form 424, Application for Federal Assistance; a cover letter that identifies the audit agency responsible for the applicant's financial accounts as well as the audit period or fiscal year that the applicant operates under (e.g., July 1 through June 30), an outline of projected costs, and the following forms: OMB Standard Form 424A, Budget Information—Non Construction Programs, OMB Standard Form 424B, Assurances—Non Construction Programs (available at www.grants.gov), and DOJ/NIC Certification Regarding Lobbying; Debarment, Suspension and Other Responsibility Matters; and Drug-Free Workplace Requirements (available at http://nicic.gov/Downloads/General/certif-frm.pdf

Applications may be submitted in hard copy, or electronically via www.grants.gov. If submitted in hard copy, there needs to be an original and three copies of the full proposal (program and budget narratives, application forms and assurances). The original should have the applicant's signature in blue ink. The program narrative text must be limited to 15 double-spaced pages, exclusive of resumes and summaries of experience. Please do not submit full curriculum vitae.

Authority: Public law 93-415.

Funds Available: NIC is seeking the applicant's best ideas regarding accomplishment of the scope of work and the related costs for achieving the goals of this solicitation. Funds (up to $100,000) may be awarded and used only for the activities that are linked to the desired goals and outcome of the project.

This project will be a collaborative venture with the NIC Prisons Division.

Eligibility of Applicants: An eligible applicant is any private agency, educational institution, organization, individual or team with expertise in the areas described. Review Considerations: Applications received under this announcement will be subjected to a 3- to 5-person NIC Peer Review Process.

Note: NIC will NOT award a cooperative agreement to an applicant who does not have a Dun and Bradstreet Database Universal Number (DUNS) and is not registered in the Central Contractor Registry.

A DUNS number can be received at no cost by calling the dedicated toll-free DUNS number request line at 1-(800) 333-0505 (if you are a sole proprietor, you would dial 1-(866) 705-5711 and select option 1).

Registration in the CCR can be done online at the CCR Web site: http://www.ccr.gov. A CCR handbook and worksheet can also be reviewed at the Web site.

Number of Awards: One.

NIC Funding Opportunity Number: 12PR02. This number should appear as a reference line in the cover letter, where indicated on Standard Form 424, and outside of the envelope in which the application is sent.

Catalog of Federal Domestic Assistance Number: 16.601.

Executive Order 12372: This project is not subject to the provisions of Executive Order 12372.

Thomas J. Beauclair,
Deputy Director, National Institute of Corrections.

[FR Doc. 2011-32121 Filed 12-14-11; 8:45 am]

BILLING CODE 4410-36-P